DEPARTMENT OF DEFENSE

Department of the Army, Corps of Engineers

[DA Permit No. NAO-2013-00418 and Section 408 Request ID No. 408-NAO-2022-0056]

Notice of Final Federal Agency Action on the Authorization for the Coastal Virginia Offshore Wind Commercial Project

AGENCY: Department of the Army, U.S. Army Corps of Engineers, DoD.

ACTION: Notice of limitation on claims for judicial review of actions by the U.S. Army Corps of Engineers (USACE).

SUMMARY: USACE announces final agency action on the USACE authorization for the proposed construction and maintenance of the Coastal Virginia Offshore Wind (CVOW) Commercial Project offshore Virginia. USACE has issued a permit authorizing the construction and maintenance of the CVOW Project under sections 10 and 14 of the Rivers and Harbors Act of 1899 (RHA) and section 404 of the Clean Water Act (CWA). The CVOW Project is a “covered project” under Title 41 of the Fixing America's Surface Transportation Act.

DATES: A claim seeking judicial review of the USACE authorization of construction and maintenance of the CVOW Project will be barred unless the claim is filed not later than two years after this notice's publication date. If the Federal law that allows for judicial review of the USACE authorization specifies a shorter time period for filing such a claim, then that shorter time period will apply.

FOR FURTHER INFORMATION CONTACT: Nicole Woodward, Regulatory Project Manager, Regulatory Branch, USACE, Norfolk District, 803 Front Street, Norfolk, Virginia 23510, (757) 201-7122, or nicole.l.woodward@usace.army.mil.

SUPPLEMENTARY INFORMATION: Notice is hereby given that USACE has taken final agency action on its authorization for the proposed CVOW Project by issuing a permit authorizing construction and maintenance of the Project under sections 10 and 14 of the RHA and section 404 of the CWA. The authorized work will occur within the Atlantic Ocean off the coast of Virginia at the mouth of the Chesapeake Bay within the Bureau of Ocean Energy Management (BOEM) Lease Area No. OCS-A-0483, extending along an offshore cable corridor to a point on the shore at the Virginia State Military Reservation (SMR) in Virginia Beach, Virginia, then extending along an onshore utility corridor within the cities of Virginia Beach and Chesapeake, Virginia.

The offshore portion of the project will include the installation of one hundred seventy-six (176) 14.7 MW wind turbine generators (WTGs) located within a 112,799-acre lease area approximately 27 miles off the Virginia Beach, Virginia coastline. Approximately 180-foot maximum diameter of stone scour protection will be installed around the WTGs. The project will also include the construction of three (3) offshore substations (OSS) with approximately 0.95 acres of scour protection, and approximately 229 miles of 660-kilovolt (kV) inter-array cables. In addition, nine (9) buried 230 kV offshore export cables will extend from the lease area to the onshore cable landing area. The offshore export cables will cross Cells 2 and 5 of the Dam Neck Ocean Disposal Site (DNODS) and three (3) existing fiber optic, in-service telecommunications cables; twenty-seven (27) 39.5-foot-long by 9-foot-wide by 0.5-foot-tall bottom protection concrete mattresses and twenty-seven (27) 138-foot-long by 9-foot-wide by 0.5-foot-tall top protection concrete mattresses will be installed to protect the proposed offshore export cables at these locations. Nine (9) temporary cofferdams will be installed at the nearshore trenchless installation punch-out locations to facilitate lowering the direct pipe within the transition zones where the offshore export cables exit the sea floor. If it is determined that the use of cofferdams is not feasible during construction, then nine (9) 82-foot-long by 6.6-foot-wide by 1-foot-high concrete mattresses will be installed above the transition zones as added cable protection. In addition, up to 108 temporary steel pipe piles may be installed along the HDD pipe alignments to act as “goal-posts” to the punch-out locations during construction.

Prior to construction, the offshore project area will be surveyed using a remotely operated vehicle (ROV) with a suction pump attachment to identify potential munitions and explosives of concern (MEC) and unexploded ordnance (UXO) targets that cannot be avoided. The proposed mitigation of MEC/UXO for the project is limited to relocation via “lift and shift” measures. The Permittee does not intend to conduct deflagration or detonation of MEC/UXO. It is anticipated that an average disturbance of 161.5 square feet of ocean bottom per mitigation of one MEC/UXO will be required as detailed in the MEC/UXO Disposition Plan and MEC/UXO Identification Survey Reports.

The onshore portion of the project will begin where the offshore export cables come onshore at the cable landing location at the State Military Reservation (SMR) in Virginia Beach, Virginia. The cables will then transition to nine (9) underground 230 kV onshore export cables, which will extend underground approximately 4.4 miles from the SMR to the proposed Harpers Switching Station located on Naval Air Station Oceana. From the Harpers Switching Station, the onshore export cables will transition to overhead interconnection cables and extend approximately 14.2 miles along new, existing, and expanded right-of-way corridors to the existing Fentress Substation in Chesapeake, Virginia. The onshore work will result in permanent impacts to approximately 1.70 acres of palustrine emergent wetlands, 0.68 acres of palustrine scrub/shrub wetlands, 7.98 acres of palustrine forested wetlands, and 153 linear feet of stream, and the conversion of approximately 29.70 acres of palustrine forested wetlands to palustrine scrub/shrub wetlands, and temporary impacts to approximately 0.38 acres of palustrine scrub/shrub and 25.46 acres of palustrine emergent wetlands.

The USACE's decision to issue a permit, and the laws under which the action was taken, are described in the Coastal Virginia Offshore Wind Commercial Project Final Environmental Impact Statement (FEIS) published on September, 29, 2023, in the Record of Decision (ROD) issued on January 29, 2024, and in other project records. The FEIS and other documents can be viewed and downloaded from the BOEM project website at https://www.boem.gov/renewable-energy/state-activities/CVOW-C. The USACE permit and ROD can be viewed and downloaded from the USACE website at https://www.nao.usace.army.mil/Missions/Regulatory/Offshore-Wind-Projects/. By this notice, USACE is advising the public of final agency action subject to 42 U.S.C. 4370m-6(a)(1)(A).

Authority: 42 U.S.C. 4370m-6(a)(1)(A).

John P. Lloyd,
Brigadier General, USA, Commanding.

[FR Doc. 2024-07470 Filed 4-8-24; 8:45 am]

BILLING CODE 3720-58-P